DEPARTMENT OF TRANSPORTATION

Maritime Administration

[Docket No. MARAD-2021-0151]

Request for Comments of a Previously Approved Information Collection: Request for Waiver of Service Obligation, Request for Deferment of Services Obligation, Application for Review

AGENCY: Maritime Administration, DOT.

ACTION: Notice and request for comments.

SUMMARY: In compliance with the Paperwork Reduction Act of 1995, this notice announces that the Information Collection Request (ICR) abstracted below is being forwarded to the Office of Management and Budget (OMB) for review and comments. Comments are invited on whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Federal Register Notice with a 60-day comment period soliciting comments on the following information collection was published on April 7, 2021.

DATES: Comments must be submitted on or before September 8, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Danielle Bennett (202) 366-5296, Office of Maritime Labor and Training, U.S. Department of Transportation, 1200 New Jersey Avenue SE, Washington, DC 20590.

SUPPLEMENTARY INFORMATION:

Title: Request for Waiver of Service Obligation, Request for Deferment of Services Obligation, Application for Review.

OMB Control Number: 2133-0510.

Type of Request: Renewal of a Previously Approved Information Collection.

Background: This information collection is essential for determining if a student or graduate of the United States Merchant Marine Academy (USMMA) or subsidized student or graduate of a State maritime academy has a waivable situation preventing them from fulfilling the requirements of a service obligation contract signed at the time of their enrollment in a Federal maritime training program. It also permits the Maritime Administration (MARAD) to determine if a graduate, who wishes to defer the service obligation to attend graduate school, is eligible to receive a deferment. Their service obligation is required by law.

Respondents: U.S. Merchant Marine Academy students and and graduates and subsidized students and graduates.

Affected Public: Individuals or Households.

Total Estimated Number of Responses: 11.

Frequency of Collection: Annually.

Estimated Time per Respondent: 30 minutes.

Total Estimated Number of Annual Burden Hours: 5.30.

(Authority: The Paperwork Reduction Act of 1995; 44 U.S.C. Chapter 35, as amended; and 49 CFR 1.93)

By Order of the Acting Maritime Administrator.
T. Mitchell Hudson, Jr.,
Secretary, Maritime Administration.

[FR Doc. 2021-16946 Filed 8-6-21; 8:45 am]

BILLING CODE 4910-81-P